DEPARTMENT OF HOMELAND SECURITY

Federal Emergency Management Agency

[Docket ID FEMA-2023-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of April 25, 2024 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Nicholas A. Shufro,
Deputy Assistant Administrator for Risk Management, Federal Emergency Management Agency, Department of Homeland Security.

Community | Community map repository address
Lonoke County, Arkansas and Incorporated Areas
Docket No.: FEMA-B-2285
City of Cabot | City Hall, 101 North 2nd Street, Cabot, AR 72023.
Unincorporated Areas of Lonoke County | Lonoke County Floodplain Administrator Office, 210 North Center Street, Lonoke, AR 72086.
La Plata County, Colorado and Incorporated Areas
Docket No.: FEMA-B-2206
City of Durango | City Hall, 949 East 2nd Avenue, Durango, CO 81301.
Town of Bayfield | Town Hall, 1199 Bayfield Parkway, Bayfield, CO 81122.
Town of Ignacio | Town Hall, 540 Goddard Avenue, Ignacio, CO 81137.
Unincorporated Areas of La Plata County | La Plata County Commissioner's Office, 1101 East 2nd Avenue, Durango, CO 81301.
Morgan County, Indiana and Incorporated Areas
Docket No.: FEMA-B-2283
City of Martinsville | City Hall, 59 S Jefferson Street, Martinsville, IN 46151.
Unincorporated Areas of Morgan County | Morgan County Administration Building, 180 S Main Street, Martinsville, IN 46151.
Berrien County, Michigan (All Jurisdictions)
Docket No.: FEMA-B-2065 and FEMA-B-2288
Charter Township of Benton | Benton Township Office, 1725 Territorial Road, Benton Harbor, MI 49022.
Charter Township of Lake | Lake Township Hall, 3220 Shawnee Road, Bridgman, MI 49106.
Charter Township of Lincoln | Lincoln Township Hall, 2055 W John Beers Road, Stevensville, MI 49127.
Charter Township of St. Joseph | Township Hall, 3000 Washington Avenue, St. Joseph, MI 49085.
City of Benton Harbor | City Hall, 200 E Wall Street, Benton Harbor, MI 49022.
City of Bridgman | City Hall, 9765 Maple Street, Bridgman, MI 49106.
City of New Buffalo | City Hall, 224 W Buffalo Street, New Buffalo, MI 49117.
City of St. Joseph | City Hall, 700 Broad Street, St. Joseph, MI 49085.
Township of Chikaming | Chickaming Township Center, 13535 Red Arrow Highway, Harbert, MI 49115.
Township of Hagar | Hagar Township Hall, 3900 Riverside Road, Riverside, MI 49084.
Township of New Buffalo | Township Office, 17425 Red Arrow Highway, New Buffalo, MI 49117.
Township of Royalton | Royalton Township Hall, 980 Miners Road, St. Joseph, MI 49085.
Village of Grand Beach | Village Hall, 48200 Perkins Boulevard, Grand Beach, MI 49117.
Village of Michiana | Village Hall, 4000 Cherokee Drive, Michiana, MI 49117.
Village of Shoreham | Shoreham Village Hall, 2120 Brown School Road, St. Joseph, MI 49085.
Village of Stevensville | Village Hall, 5768 St. Joseph Avenue, Stevensville, MI 49127.
Pipestone County, Minnesota and Incorporated Areas
Docket No.: FEMA-B-2308
City of Edgerton | City Hall, 801 1st Avenue W, Edgerton, MN 56128.
City of Hatfield | City Hall, 320 C Avenue, Hatfield, MN 56164.
City of Holland | City Hall, 210 Rock Street, Holland, MN 56139.
City of Ihlen | City Hall, 110 Holman Street W, Ihlen, MN 56164.
City of Jasper | City Hall, 105 E Wall Street, Jasper, MN 56144.
City of Pipestone | City Hall, 119 2nd Avenue SW, Suite 9, Pipestone, MN 56164.
City of Trosky | City Hall, 220 Broadway Street S, Trosky, MN 56144.
Unincorporated Areas of Pipestone County | Pipestone County Courthouse, 416 Hiawatha Avenue S, Pipestone, MN 56164.
Mineral County, Montana and Incorporated Areas
Docket No.: FEMA-B-2211
Town of Alberton | Mineral County Courthouse, 300 River Street, Superior, MT 59872.
Town of Superior | Mineral County Courthouse, 300 River Street, Superior, MT 59872.
Unincorporated Areas of Mineral County | Mineral County Courthouse, 300 River Street, Superior, MT 59872.
Fairfield County, Ohio and Incorporated Areas
Docket No.: FEMA-B-2318
City of Pickerington | City Hall, 100 Lockville Road, Pickerington, OH 43147.
Unincorporated Areas of Fairfield County | Fairfield County GIS Department, 108 N High Street, Lancaster, OH 43130.
Roberts County, South Dakota and Incorporated Areas
Docket No.: FEMA-B-2273
City of Peever | Roberts County Courthouse, 411 2nd Avenue E, Sisseton, SD 57262.
City of Rosholt | Roberts County Courthouse, 411 2nd Avenue E, Sisseton, SD 57262.
City of Sisseton | City Hall, 406 2nd Avenue W, Sisseton, SD 57262.
City of Wilmot | Roberts County Courthouse, 411 2nd Avenue E, Sisseton, SD 57262.
Sisseton Wahpeton Oyate Tribe | Sisseton Wahpeton Oyate Emergency Management Office, 114 Lake Traverse Drive, Sisseton, SD 57262.
Town of Claire City | Roberts County Courthouse, 411 2nd Avenue E, Sisseton, SD 57262.
Town of Corona | Roberts County Courthouse, 411 2nd Avenue E, Sisseton, SD 57262.
Town of New Effington | Community Center, 303 Main Street, New Effington, SD 57255.
Town of Ortley | Community Center, 212 New Main Street, Ortley, SD 57256.
Town of Summit | Roberts County Courthouse, 411 2nd Avenue E, Sisseton, SD 57262.
Town of White Rock | Roberts County Courthouse, 411 2nd Avenue E, Sisseton, SD 57262.
Unincorporated Areas of Roberts County | Roberts County Courthouse, 411 2nd Avenue E, Sisseton, SD 57262.
Jackson County, Tennessee and Incorporated Areas
Docket No.: FEMA-B-2290
Town of Gainesboro | City Hall, 402 East Hull Avenue, Gainesboro, TN 38562.
Unincorporated Areas of Jackson County | Jackson County Courthouse, 101 East Hull Avenue, Gainesboro, TN 38562.
Wilson County, Tennessee and Incorporated Areas
Docket No.: FEMA-B-2290
City of Lebanon | City Hall, 200 North Castle Heights Avenue, Suite 300, Lebanon, TN 37087.
Unincorporated Areas of Wilson County | Wilson County Courthouse, 228 East Main Street, Planning Office, Room 5, Lebanon, TN 37087.
Fauquier County, Virginia and Incorporated Areas
Docket No.: FEMA-B-2110 and B-2312
Town of Remington | Town Office, 105 E Main Street, Remington, VA 22734.
Town of The Plains | Post Office, 4314 Fauquier Avenue, The Plains, VA 20198.
Town of Warrenton | Town Office, 21 Main Street, Warrenton, VA 20186.
Unincorporated Areas of Fauquier County | Fauquier County GIS Department, 29 Ashby Street, Warrenton, VA 20186.
Henrico County, Virginia (All Jurisdictions)
Docket No.: FEMA-B-2235
Unincorporated Areas of Henrico County | Henrico County Administration Annex, Department of Public Works, 4305 E Parham Road, Henrico, VA 23228.

[FR Doc. 2023-28368 Filed 12-22-23; 8:45 am]

BILLING CODE 9110-12-P